DEPARTMENT OF LABOR

Office of Workers' Compensation Programs

Advisory Board on Toxic Substances and Worker Health

AGENCY: Office of Workers' Compensation Programs.

ACTION: Announcement of meeting of the Advisory Board on Toxic Substances and Worker Health (Advisory Board) for the Energy Employees Occupational Illness Compensation Program Act (EEOICPA).

SUMMARY: The Advisory Board will meet November 16-17, 2017, in Santa Fe, New Mexico.

Comments, requests to speak, submissions of materials for the record, and requests for special accommodations: You must submit (postmark, send, transmit) comments, requests to address the Advisory Board, speaker presentations, and requests for special accommodations for the meetings by November 9, 2017.

ADDRESSES: The Advisory Board will meet at The Lodge at Santa Fe, 750 N. St. Francis Dr., Santa Fe, New Mexico 87501, phone 505-992-5800.

Submission of comments, requests to speak and submissions of materials for the record: You may submit comments, materials, and requests to speak at the Advisory Board meeting, identified by the Advisory Board name and the meeting date of November 16-17, 2017, by any of the following methods:

• Electronically: Send to: EnergyAdvisoryBoard@dol.gov (specify in the email subject line, for example “Request to Speak: Advisory Board on Toxic Substances and Worker Health”).

• Mail, express delivery, hand delivery, messenger, or courier service: Submit one copy to the following address: U.S. Department of Labor, Office of Workers' Compensation Programs, Advisory Board on Toxic Substances and Worker Health, Room S-3522, 200 Constitution Ave. NW., Washington, DC 20210.

Requests for special accommodations: Please submit requests for special accommodations to attend the Advisory Board meeting by email, telephone, or hard copy to Ms. Carrie Rhoads, OWCP, Room S-3524, U.S. Department of Labor, 200 Constitution Ave. NW., Washington, DC 20210; telephone (202) 343-5580; email EnergyAdvisoryBoard@dol.gov.

Instructions: Your submissions must include the Agency name (OWCP), the committee name (the Advisory Board), and the meeting date (November 16-17, 2017). Due to security-related procedures, receipt of submissions by regular mail may experience significant delays. For additional information about submissions, see the SUPPLEMENTARY INFORMATION section of this notice.

OWCP will make available publically, without change, any comments, requests to speak, and speaker presentations, including any personal information that you provide. Therefore, OWCP cautions interested parties against submitting personal information such as Social Security numbers and birthdates.

FOR FURTHER INFORMATION CONTACT: For press inquiries: Ms. Amy Louviere, Office of Public Affairs, U.S. Department of Labor, Room S-1028, 200 Constitution Ave. NW., Washington, DC 20210; telephone (202) 693-4672; email Louviere.Amy@DOL.GOV.

SUPPLEMENTARY INFORMATION: The Advisory Board will meet: Tuesday, November 14, 2017 and Wednesday, November 15, 2017, for fact-finding site visits of the Sandia National Laboratory and the Los Alamos National Laboratory, accompanied by the Designated Federal Officer; Thursday, November 16, 2017, from 8:30 a.m. to 6:00 p.m. Mountain time; and Friday, November 17, 2017, from 8:00 a.m. to 11:00 a.m. Mountain time in Santa Fe, New Mexico. Some Advisory Board members may attend the meeting by teleconference. The teleconference number and other details for participating remotely will be posted on the Advisory Board's Web site, http://www.dol.gov/owcp/energy/regs/compliance/AdvisoryBoard.htm, 72 hours prior to the commencement of the first meeting date. Advisory Board meetings are open to the public.

Public comment session: Thursday, November 16, 2017, from 4:30 p.m. to 6:00 p.m. Mountain time. Please note that the public comment session ends at the time indicated or following the last call for comments, whichever is earlier. Members of the public who wish to provide public comments should plan to attend the public comment session (in person or remotely) at the start time listed.

The Advisory Board is mandated by Section 3687 of EEOICPA. The Secretary of Labor established the Board under this authority and Executive Order 13699 (June 26, 2015). The purpose of the Advisory Board is to advise the Secretary with respect to: (1) The Site Exposure Matrices (SEM) of the Department of Labor; (2) medical guidance for claims examiners for claims with the EEOICPA program, with respect to the weighing of the medical evidence of claimants; (3) evidentiary requirements for claims under Part B of EEOICPA related to lung disease; and (4) the work of industrial hygienists and staff physicians and consulting physicians of the Department of Labor and reports of such hygienists and physicians to ensure quality, objectivity, and consistency. The Advisory Board sunsets on December 19, 2019.

The Advisory Board operates in accordance with the Federal Advisory Committee Act (FACA) (5 U.S.C. App. 2) and its implementing regulations (41 CFR part 102-3).

Agenda: The tentative agenda for the Advisory Board meeting includes:

• Review of DOL responses to Advisory Board's October 2016 recommendations;

• Reports of subcommittees and presumptions working group;

• Review of Public Comments;

• Review of Board subcommittee structure and work agenda;

• Consideration of any new issues; and

• Public comments.

OWCP transcribes and prepares detailed minutes of Advisory Board meetings. OWCP posts the transcripts and minutes on the Advisory Board Web page, http://www.dol.gov/owcp/energy/regs/compliance/AdvisoryBoard.htm, along with written comments, speaker presentations, and other materials submitted to the Advisory Board or presented at Advisory Board meetings.

Public Participation, Submissions and Access to Public Record

Advisory Board meetings: All Advisory Board meetings are open to the public. Information on how to participate in the meeting remotely will be posted on the Advisory Board's Web site.

Individuals requesting special accommodations to attend the Advisory Board meeting should contact Ms. Rhoads.

Submission of comments: You may submit comments using one of the methods listed in the ADDRESSES section. Your submission must include the Agency name (OWCP) and date for this Advisory Board meeting (November 16-17, 2017). OWCP will post your comments on the Advisory Board Web site and provide your submissions to Advisory Board members.

Because of security-related procedures, receipt of submissions by regular mail may experience significant delays.

Requests to speak and speaker presentations: If you want to address the Advisory Board at the meeting you must submit a request to speak, as well as any written or electronic presentation, by November 9, 2017, using one of the methods listed in the ADDRESSES section. Your request may include:

• The amount of time requested to speak;

• The interest you represent (e.g., business, organization, affiliation), if any; and

• A brief outline of the presentation.

PowerPoint presentations and other electronic materials must be compatible with PowerPoint 2010 and other Microsoft Office 2010 formats. The Advisory Board Chair may grant requests to address the Board as time and circumstances permit.

Electronic copies of this Federal Register notice are available at http://www.regulations.gov. This notice, as well as news releases and other relevant information, are also available on the Advisory Board's Web page at http://www.dol.gov/owcp/energy/regs/compliance/AdvisoryBoard.htm.

For further information regarding this meeting, you may contact Douglas Fitzgerald, Designated Federal Officer, at fitzgerald.douglas@dol.gov, or Carrie Rhoads, Alternate Designated Federal Officer, at rhoads.carrie@dol.gov, U.S. Department of Labor, 200 Constitution Avenue NW., Suite S-3524, Washington, DC 20210, telephone (202) 343-5580.

This is not a toll-free number.

Signed at Washington, DC, this 13th day of October 2017.
Julia K. Hearthway,
Director, Office of Workers' Compensation Programs.

[FR Doc. 2017-22818 Filed 10-19-17; 8:45 am]

BILLING CODE 4510-24-P